FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 011275-030.

Title: Australia and New Zealand-United States Discussion Agreement.

Parties: A.P. Moller-Maersk AS; ANL Singapore Pte Ltd.; CMA CGM, S.A.; Hamburg-Süd KG; and Hapag-Lloyd AG.

Filing Party: Wayne R. Rohde, Esq.; Cozen O'Connor LLP; 1627 I Street, NW; Suite 1100; Washington, DC 20006-4007.

Synopsis: The amendment revises the minimum level of service agreed upon by the parties in accordance with Australian law.

By Order of the Federal Maritime Commission.
Dated: December 23, 2011.
Karen V. Gregory,
Secretary.

[FR Doc. 2011-33485 Filed 12-28-11; 8:45 am]

BILLING CODE 6730-01-P